DEPARTMENT OF LABOR

Employment and Training Administration

[TA-W-34,244 Riddle, Oregon; TA-W-34,244A Coos Bay, Oregon]

Cominco Ltd., Cominco American, Inc. Glenbrook Operations (Formerly Glenbrook Nickel Company); Amended Certification Regarding Eligibility To Apply for Worker Adjustment Assistance

In accordance with section 223 of the Trade Act of 1974 (19 U.S.C. 2273) the Department of Labor issued a Certification of Eligibility to Apply for Worker Adjustment Assistance on February 25, 1998, applicable to workers of Glenbrook Nickel Company, Riddle, Oregon. The notice was published in the Federal Register on March 23, 1998 (63 FR 13879). The certification was amended March 20, 1998 to include another manufacturing facility of the subject firm. The notice was published in the Federal Register on March 31, 1998 (63 FR 15441).

At the request of the State agency, the Department reviewed the certification for workers of the subject firm. The workers were engaged in the production of ferronickel. New information received from the company shows that Cominco Ltd and Cominco American are the owners of the Glenbrook properties. In 1998, Glenbrook Nickel Company became known as Cominco Ltd., Cominco American,—Glenbrook Operations. Information also shows that workers separated from employment at Glenbrook Nickel Company had their wages reported under a separate unemployment insurance (UI) tax account for Cominco Ltd., Cominco American,—Glenbrook Operations.

Accordingly, the Department is amending the certification to properly reflect this matter.

The amended notice applicable to TA-W-34,244 and TA-W-344,244A are hereby issued as follows:

All workers of Cominco Ltd., Cominco American,—Glenbrook Operations (Formerly Glenbrook Nickel Company), Riddle, Oregon and Coos Bay, Oregon who became totally or partially separated from employment on or after January 30, 1997 through February 25, 2000 are eligible to apply for adjustment assistance under section 223 of the Trade Act of 1974.

Signed at Washington, DC this 12th day of May, 2000.
Grant D. Beale,
Program Manager, Division of Trade Adjustment Assistance.

[FR Doc. 00-12772 Filed 5-19-00; 8:45 am]

BILLING CODE 4510-30-M